DEPARTMENT OF JUSTICE

Antitrust Division

Notice Pursuant to the National Cooperative Research and Production Act of 1993—Z-Wave Alliance, Inc.

Notice is hereby given that, on December 28, 2021, pursuant to Section 6(a) of the National Cooperative Research and Production Act of 1993, 15 U.S.C. 4301 et seq. (“the Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Bluesalve Partners LLC, Ashburn, VA; Shipshape Solutions Inc, Austin, TX; Octo Telematics SpA, Rome, ITALY; SoftAtHome, Colombes, FRANCE; ZWaveProducts.com, Randolph, NJ; Simon Holding SL, Barcelona, SPAIN; and KWSM Group, Bridgeman Downs, AUSTRALIA have joined as parties to the venture.

Also, Base2 Managed It Pty Ltd, Sydney, AUSTRALIA; HAB Home Intelligence, North Richland Hills, TX; TIM S.p.A. (TELECOM ITALIA), Milano, ITALY; 3MANTECH, South Haven, MS; Automate Asia, Oxley Bizhub 2 Sin, SINGAPORE; Aware Care Network, Plano, TX; Clare Controls LLC, Sarasota, FL; Intermatic Incorporated, Spring Grove, IL; Plexus Solutions Pty Ltd, Brighton, AUSTRALIA; Shenzhen Kaadas Intelligent Technology Co., Ltd, Shenzhen, PEOPLE'S REPUBLIC OF CHINA; Smart Lifestyle Solutions Pty Ltd, Pagewood, AUSTRALIA; and WeBeHome, Bromma, SWEDEN have withdrawn as parties to the venture.

In addition, an existing member, Ningbo Dooya Mechanic & Electronic Technology Co., Ltd., Ningbo, PEOPLE'S REPUBLIC OF CHINA, name was spelled incorrectly on the notification filed on December 1, 2020.

No other changes have been made in either the membership or planned activity of the group research project. Membership in this group research project remains open, and the Joint Venture intends to file additional written notifications disclosing all changes in membership.

On November 19, 2020, the Joint Venture filed its original notification pursuant to Section 6(a) of the Act. The Department of Justice published a notice in the Federal Register pursuant to Section 6(b) of the Act on December 1, 2020 (85 FR 77241).

The last notification was filed with the Department on October 6, 2021. A notice was published in the Federal Register pursuant to Section 6(b) of the Act on November 8, 2021 (86 FR 61791).

Suzanne Morris,
Chief, Premerger and Division Statistics, Antitrust Division.

[FR Doc. 2022-05107 Filed 3-10-22; 8:45 am]

BILLING CODE 4410-11-P